OFFICE OF PERSONNEL MANAGEMENT

5 CFR Part 724

RIN 3206-AK38

Implementation of Title II of the Notification and Federal Employee Antidiscrimination and Retaliation Act of 2002

AGENCY: Office of Personnel Management.

ACTION: Proposed rule; reopening of comment period.

SUMMARY: On February 28, 2005, the Office of Personnel Management (OPM) issued proposed rules regarding the notification and training requirements of Title II of the No FEAR Act (70 FR 9544). The proposed rule contained a 60-day comment period. Upon further consideration, OPM has decided to reopen the initial comment period until June 28, 2005.

DATES: Comments must be received on or before June 28, 2005.

ADDRESSES: Send or deliver written comments to Ana A. Mazzi, Deputy Associate Director for Workforce Relations and Accountability Policy, Office of Personnel Management, Room 7H28, 1900 E Street NW., Washington, DC, 20415; by FAX at (202) 606-2613; or by e-mail at NoFEAR@opm.gov.

FOR FURTHER INFORMATION CONTACT: Gary D. Wahlert by telephone at (202) 606-2930; by FAX at (202) 606-2613; or be e-mail at NoFEAR@opm.gov.

U.S. Office of Personnel Management.
Dan G. Blair,
Acting Director.

[FR Doc. 05-10483 Filed 5-25-05; 8:45 am]

BILLING CODE 6325-48-M